FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Procurement Solicitation Package (FR 1400; OMB No. 7100-0180).

FOR FURTHER INFORMATION CONTACT:

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, the Office of Management and Budget (OMB) delegated to the Board authority under the Paperwork Reduction Act (PRA) to approve and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Board may not conduct or sponsor, and the respondent is not required to respond to, an information collection that has been extended, revised, or implemented on or after October 1, 1995, unless it displays a currently valid OMB control number.

Final approval under OMB delegated authority of the extension for three years, with revision, of the following reports:

Report title: Vendor Database.

Agency form number: FR 1400A.

OMB control number: 7100-0180.

Frequency: On occasion.

Respondents: Businesses.

Estimated number of respondents: 250.

Estimated average hours per response: 1.

Estimated annual burden hours: 250.

Report title: Solicitation Package.

Agency form number: FR 1400B.

OMB control number: 7100-0180.

Frequency: On occasion.

Respondents: Businesses.

Estimated number of respondents: 300.

Estimated average hours per response: 81.

Estimated annual burden hours: 24,300.

Report title: Vendor Risk Management Offeror Questionnaire.

Agency form number: FR 1400C.

OMB control number: 7100-0180.

Frequency: On occasion.

Respondents: Businesses.

Estimated number of respondents: 20.

Estimated average hours per response: 12.

Estimated annual burden hours: 240.

Report title: Subcontracting Report.

Agency form number: FR 1400D.

OMB control number: 7100-0180.

Frequency: Quarterly.

Respondents: Businesses.

Estimated number of respondents: 75.

Estimated average hours per response: 0.5.

Estimated annual burden hours: 150.

General description of reports: The Board is continuously seeking vendors who are interested in doing business with the Board through various outreach events, minority/diversity conferences, meetings, and events targeted to either a specific industry classification of vendors or an upcoming acquisition. Vendors are encouraged during these efforts to register in the Board's database of interested vendors (FR 1400A). In announcing an acquisition, Board staff contacts vendors registered in the Board database via electronic mail or by telephone, and provides the Solicitation Package (FR 1400B) and applicable attachments. The Solicitation, Offer, and Award form (SOA) (Attachment A of FR 1400B) is required with proposals offered in response to a solicitation issued by the Board. The Supplier Information Form (Attachment N of FR 1400B) is required for the entry of a vendor into the Board's contract writing and invoice payment system. As a result of the criteria used by the Board to evaluate proposals, the Solicitation Package may also include the Past Performance Data Sheet and Past Performance Questionnaire (Attachment I of FR 1400B) if past performance is an evaluation factor. Typically, if past performance is considered an evaluation factor, the vendor is asked to submit information on up to three previous contracts whose effort is recent and relevant to the effort required by the solicitation.

Solicitations that require the vendor to process, store, or transmit data from the Board will contain the Vendor Risk Management Offeror Questionnaire (FR 1400C). The questionnaire will be specific to the security controls surrounding the vendor's proposed application that will be used to process, store, or transmit the data. Security controls will be defined and prioritized based on the Federal Information Security Modernization Act of 2014 (FISMA) and the National Institute of Standards and Technology (NIST) Special Publication 800-53 (Security Controls and Assessment Procedures for Federal Information Systems and Organizations). In addition, for solicitations that have subcontracting opportunities and are expected to exceed $100,000 ($300,000 for construction), a non-covered company vendor is required to submit a subcontracting plan in its own format, with its proposal. Then, if the vendor is the chosen vendor and awarded a contract, the vendor is required to provide the quarterly Subcontracting Reports (FR 1400D) to the Board, which shall document the vendor's participation achievement on a cumulative basis. Information from the Subcontracting Report is used to assist the Board in fulfilling the requirement in Section 342(e) of the Dodd-Frank Act that requires the Board to submit to Congress an annual report regarding the fair inclusion of minorities and women in contracting.

Legal authorization and confidentiality: The FR 1400A is voluntary. For prospective vendors that decide to submit proposals to the Board, the FR 1400B, 1400C, and 1400D are required to obtain a benefit, in order to be eligible for the award of a contract.

The FR 1400 is authorized pursuant to sections 10 and 11 of the Federal Reserve Act (“FRA”), and section 342(c) of the Dodd-Frank Wall Street Reform and Consumer Protection Act (“Dodd-Frank”). Sections 10(3) and 11 of the FRA (12 U.S.C. 243 and 248(l)) grant the Board full authority to manage its buildings and its staff. Section 10(4) of the FRA (12 U.S.C. 244) authorizes the Board to determine and prescribe the manner in which its obligations shall be incurred and its disbursements and expenses allowed and paid. Therefore, the Board can solicit proposals and seek the information in FR 1400 from prospective vendors.

Additionally, the FR 1400 is authorized by section 342(c) of Dodd-Frank (12 U.S.C. 5452(c)), which requires the Board to develop and implement standards and procedures for the review and evaluation of contract proposals and for hiring service providers that include a component that gives consideration to the diversity of a prospective vendor and the fair inclusion of women and minorities in the workforce of such vendor and any subcontractor.

A vendor generally may request confidential treatment for information submitted during the solicitation process, and the Board will review the request to determine if the data may be kept confidential under exemption 4 of the Freedom of Information Act, which protects from disclosure trade secrets and commercial or financial information (5 U.S.C. 552(b)(4)).

Current actions: On September 28, 2018, the Board published a notice in the Federal Register (83 FR 49092) requesting public comment for 60 days on the extension, with revision, of the Procurement Solicitation Package. To better assist the Board's competitive vendor solicitation process, the Board has revised the FR 1400 by (1) reformatting and updating the Solicitation Package, including the Solicitation, Offer, and Award Form (SOA), Supplier Information Form, Past Performance Data Sheet, and Past Performance Questionnaire (FR 1400B); (2) adding the Vendor Risk Management Offeror Questionnaire (FR 1400C); and (3) revising the Subcontracting Report (FR 1400D) to improve clarity and gather specific information in accordance with the Board's subcontracting goals. Lastly, the Board has discontinued the use of the Request for Price Quotation Form (RFP/RFPQ). The purpose of the RFPQ form was absorbed into the FR 1400B. The comment period for this notice expired on November 27, 2018. The Board did not receive any comments. The revisions will be implemented as proposed.

Board of Governors of the Federal Reserve System, December 6, 2018.
Michele Taylor Fennell,
Assistant Secretary of the Board.

[FR Doc. 2018-26816 Filed 12-11-18; 8:45 am]

BILLING CODE 6210-01-P